DEPARTMENT OF TRANSPORTATION

Federal Aviation Administration

Notice of Opportunity for Public Comment on Grant Acquired Property Release at Mount Pleasant Regional Airport, Mount Pleasant, SC

AGENCY: Federal Aviation Administration (FAA), DOT.

ACTION: Notice.

SUMMARY: Under the provisions of Title 49, U.S.C. Section 47153(c), notice is being given that the FAA is considering a request from the Charleston County Aviation Authority to waive the requirement that approximately 17.9 acres of airport property (Faison Road), located at the Mount Pleasant Regional Airport, be used for aeronautical purposes.

DATES: Comments must be received on or before September 27, 2006.

ADDRESSES: Comments on this notice may be mailed or delivered in triplicate to the FAA at the following address: Atlanta Airports District Office, Attn: Anthony Cochran, Program Manager, 1701 Columbia Ave., Suite 2-260, Atlanta, GA 30337-2747.

In addition, one copy of any comments submitted to the FAA must be mailed or delivered to Sam Hoerter, A.A.E., Director of Airports, Charleston County Aviation Authority at the following address: Charleston County Aviation Authority, Charleston International Airport, 5500 International Blvd. #101, Charleston, SC 29418.

FOR FURTHER INFORMATION CONTACT: Anthony Cochran, Program Manager, Atlanta Airports District Office, 1701 Columbia Ave., Suite 2-260, Atlanta, GA 30337-2747, (404) 305-7144. The application may be reviewed in person at this same location.

SUPPLEMENTARY INFORMATION: The FAA is reviewing a request by the Charleston County Aviation Authority to release approximately 17.9 acres of airport property (Faison Road) at the Mount Pleasant Regional Airport. The property consists of an access road on one parcel roughly located on the East side of the airport. This property is currently shown on the approved Airport Layout Plan as aeronautical use land; however the property is currently not being used for aeronautical purposes and the proposed use of this property is compatible with airport operations. The Charleston County Aviation Authority will ultimately transfer the property to the Town of Mount Pleasant for continued use as a public road in exchange for providing future maintenance/repair of the road and public services to the airport.

Any person may inspect the request in person at the FAA office listed above under FOR FURTHER INFORMATION CONTACT. In addition, any person may, upon request, inspect the request, notice and other documents germane to the request in person at the Mount Pleasant Regional Airport.

Issued in Atlanta, Georgia on August 16, 2006.
Scott L. Seritt,
Manager, Atlanta Airports District Office, Southern Region.

[FR Doc. 06-7201 Filed 8-25-06; 8:45 am]

BILLING CODE 4910-13-M